DEPARTMENT OF HOUSING AND URBAN DEVELOPMENT

[Docket No. FR-5123-N-08]

Notice of Proposed Information Collection for Public Comment on the Humidity Monitoring Survey

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: June 4, 2007.

ADDRESSES: Interested persons are invited to submit comments regarding this proposal. Comments should refer to the proposal by name and/or OMB Control Number and should be sent to: Reports Management Liaison Officer, Office of Policy Development and Research, Department of Housing and Urban Development, 451 7th Street, SW., Room 8234, Washington, DC 20410-5000.

FOR FURTHER INFORMATION CONTACT: Mr. Michael Blanford, Research Engineer, Office of Policy Development and Research, Department of Housing and Urban Development, 451 7th Street, SW., Room 8134, Washington, DC 20410-5000. Call (202) 402-5728 for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Humidity Monitoring Survey.

Description of the need for the information and proposed use: This request is for the clearance of a survey instrument designed to measure the humidity levels in single family residences. The purpose of the survey is: (1) Collect moisture load data to support research to better understand the impact of moisture on the durability of homes; (2) Support the development of design criteria, such as ASHRAE Standard 160P, that will minimize durability problems associated with high moisture levels; (3) Investigate the influence of the interior and exterior conditions on the moisture level of typical single family detached homes.

OMB Approval Number: Pending OMB approval.

Agency form numbers: None.

Members of Affected Public: Individuals.

Estimation of the total number of hours needed to prepare the information collection including number of respondents, frequency of response, and hours of response: 70 individuals will be surveyed in person. Average time to complete the survey is 20 minutes. Respondents will be contacted three times, once every six months. Total burden hours are 70.

Status of the proposed information collection: New.

Authority: Section 3506 of the Paperwork Reduction Act of 1995, 44 U.S.C. Chapter 35, as amended.

Dated: March 29, 2007.
Darlene F. Williams,
Assistant Secretary for Policy Development and Research.

[FR Doc. E7-6226 Filed 4-3-07; 8:45 am]

BILLING CODE 4210-67-P